DEPARTMENT OF THE INTERIOR

Bureau of Land Management

[(WY-060-1320-EL), WYW154595]

Notice of Availability of Ten Mile Rim Coal Lease by Application Draft Environmental Assessment and Federal Coal Notice of Hearing, Wyoming

AGENCY: Bureau of Land Management, Interior.

ACTION: Notice of Availability (NOA) of a Draft Environmental Assessment (EA) on a Coal Lease By Application (LBA) received for one Federal coal tract in the decertified Green River/Hams Fork Coal Production Region, Wyoming, and Notice of Public Hearing.

SUMMARY: The Bureau of Land Management (BLM) announces the availability of the Ten Mile Rim Coal Tract Draft EA and a public hearing on the proposal to lease coal pursuant to 43 Code of Federal Regulations (CFR) 3425.4.

The Draft EA analyzes and discloses direct, indirect, and cumulative environmental impacts of issuing a Federal coal lease on the eastern flank of the Rock Springs Uplift. These lands are located in Sweetwater County, Wyoming.

The purpose of the public hearing is to solicit comments from the public on (1) the proposal to issue a Federal coal lease; (2) the proposed competitive lease sale; (3) the fair market value of the Federal coal; and (4) maximum economic recovery of the Federal coal included in the Ten Mile Rim tract.

DATES: Written comments on the Draft EA will be accepted on or before March 4, 2004. The public hearing will be held at 2 p.m. Mountain Standard Time on March 9, 2004, at the Pilot Butte Conference Room at the Rock Springs Field Office, 280 Highway 191 North, Rock Springs, Wyoming.

ADDRESSES: Please address questions, comments, or concerns to the Rock Springs Field Office, Bureau of Land Management, Attn: Teri Deakins, 280 Highway 191 North, Rock Springs, Wyoming 82902; fax them to (307) 352-0329; or send e-mail comments to Teri Deakins at teri_deakins@blm.gov.

The BLM asks that those submitting comments make them as specific as possible with reference to page numbers and chapters of the Draft EA. Comments that contain only opinions or preferences will not receive a formal response; however, they will be considered and included as part of the BLM decision-making process. Comments, including names and street addresses of respondents, will be available for public review at the address listed above during regular business hours (7:45 a.m. through 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials or organizations or businesses, will be made available for public inspection in their entirety.

A copy of the Draft EA has been sent to the affected Federal, State, and local government agencies; persons and entities identified as potentially being affected by a decision to lease the Federal coal in this tract; and persons who indicated to the BLM that they wished to receive a copy of the Draft EA. Copies of the Draft EA are available for public inspection at the following office locations: Bureau of Land Management, Wyoming State Office, 5353 Yellowstone Road, Cheyenne, Wyoming 82009; Bureau of Land Management, Rock Springs Field Office, 280 Highway 191 North, Rock Springs, Wyoming 82901.

Future notification of public meetings, or other public involvement activities, concerning the proposed exchange will be provided through public notices, news media releases, or mailings. These notifications will provide at least 15 days notice of public meetings or gatherings and 30 days notice of written comment requests.

FOR FURTHER INFORMATION CONTACT: Teri Deakins or Jeff Clawson at the above address, or telephone (307) 352-0256.

SUPPLEMENTARY INFORMATION: On September 28, 2001, Bridger Coal Company applied for a coal lease for approximately 7,054.34 acres in one tract (approximately 110 million recoverable tons of coal) adjacent to the Bridger Coal Mine in Sweetwater County, Wyoming. The tract is referred to as the Ten Mile Rim Tract, and was assigned case number WYW154595. Based on exploratory drilling results, the Ten Mile Rim Tract has been modified, with a decrease in acreage. The modification, filed on February 11, 2003, reduces the amount of acreage to 2,242.18 acres containing about 43 million tons of in-place coal reserves.

The following lands are contained in the modified lease application in Sweetwater County, Wyoming:

Sixth Principle Meridian, Wyoming

T. 21 N., R. 100 W.

Section 6: Lots 8 through 14, S½NE¼, SE¼NW¼, E½SW¼, SE¼

T. 22 N., R. 100 W.

Section 30: Lots 5 through 8, E½W½, E½

T. 22 N., R. 101 W.

Section 26: Lots 1 through 16

Section 34: Lots 1, 2, 6, 7, 8, 13, NE¼SE¼, SW¼SE¼

Containing 2,242.18 acres, more or less.

According to the modified application, the coal would be mined for sale to the Jim Bridger electrical power generating plant located adjacent to the existing mine, and would extend the life of the existing mine. The mine adjacent to the tract described above has an approved mining and reclamation plan from the State of Wyoming Land Quality Division and an approved air quality permit from the Wyoming Department of Environmental Quality, Air Quality Division.

The Draft EA analyzes two alternatives: The Proposed Action of leasing the tract and the No Action Alternative. Consistent with the coal leasing regulations BLM has identified and considered other alternative tract configurations that would add or subtract Federal coal to avoid bypassing coal or to increase estimated fair market value of the unleased Federal coal in this area. The Draft EA also analyzes the No Action Alternative of rejecting the application to lease Federal coal. The Proposed Action and Alternative considered are in conformance with the Green River Resource Management Plan (1997).

The Office of Surface Mining Reclamation and Enforcement (OSM) is a cooperating agency in the preparation of the Draft EA. If the tract is leased, it must be incorporated into the existing mining and reclamation plan for the adjacent Bridger coal mine. Before the Federal coal in this tract can be mined the Secretary of the Interior must approve each revision to the MLA (Mineral Leasing Act) mining plan. OSM is the Department of the Interior agency that would be responsible for recommending approval, approval with conditions, or disapproval of the revised MLA plan to the Secretary of the Interior.

Dated: August 1, 2003.
Alan L. Kesterke,
Associate State Director.

Editorial Note: This document was received at the Officer of the Federal Register on January 16, 2004.

[FR Doc. 04-1360 Filed 2-2-04; 8:45 am]

BILLING CODE 4310-22-P